DEPARTMENT OF COMMERCE

Bureau of Industry and Security

Information Systems Technical Advisory Committee; Notice of Partially Closed Meeting

The Information Systems Technical Advisory Committee (ISTAC) will meet on February 22 and 23, 2006, 9 a.m., at the Space and Naval Warfare Systems Center (SPAWAR), Building 33, Cloud Room, 53560 Hull Street, San Diego, California, 92152. The Committee advises the Office of the Assistant Secretary for Export Administration on technical questions that affect the level of export controls applicable to information systems equipment and technology.

February 22

Public Session

1. Opening Remarks and Introductions.

2. Digital Rights Management (DRM) and Consumer Products.

3. Mil-spec Qualification of Semiconductors.

4. AMD Roadmap and Directions.

5. Arbitrary Waveform Generators.

6. Quality of Service (QoS) in VoIP networks.

7. Robotics and Communications.

8. FPGAs in Defense Applications.

February 23

Closed Session

9. Discussion of matters determined to be exempt from the provisions relating to public meetings found in 5 U.S.C. app. 2 10(a)(1) and 10(a)(3).

A limited number of seats will be available for the public session. Reservations are not accepted. To the extent time permits, members of the public may present oral statements to the Committee. The public may submit written statements at any time before or after the meeting. However, to facilitate distribution of public presentation materials to Committee members, the Committee suggests that public presentation materials or comments be forwarded before the meeting to Ms. Yvette Springer at Yspringer@bis.doc.gov

The Assistant Secretary for Administration, with the concurrence of the delegate of the General Counsel, formally determined on January 23, 2006, pursuant to Section 10(d) of the Federal Advisory Committee Act, as amended (5 U.S.C. app. 2 (10)(d)), that portion of the meeting concerning trade secrets and commercial or financial information deemed privileged or confidential as described in 5 U.S.C. 552b(c)(4) and the portion of the meeting concerning matters the disclosure of which would be likely to frustrate significantly implementation of an agency action as described in 5 U.S.C. 552b(c)(9)(B) shall be exempt from the provisions relating to public meetings found in 5 U.S.C. app. 2 10(a)(1) and 10(a)(3). The remaining portions of the meeting will be open to the public.

For more information, call Yvette Springer at (202) 482-4814.

Dated: February 1, 2006.
Yvette Springer,
Committee Liaison Officer.

[FR Doc. 06-1109 Filed 2-6-06; 8:45 am]

BILLING CODE 3510-JT-M